CONSUMER PRODUCT SAFETY COMMISSION

Sunshine Act Meeting

TIME AND DATE: Wednesday, November 20, 2024-10 a.m.

PLACE: Meeting will take place remotely and in person at 4330 East West Highway, Bethesda, Maryland, Room 420.

STATUS: Commission Meeting—Closed to the Public.

MATTERS TO BE CONSIDERED:

Meeting Matter

Briefing Matter.

CONTACT PERSON FOR MORE INFORMATION: Alberta E. Mills, Office of the Secretary, U.S. Consumer Product Safety Commission, 4330 East West Highway, Bethesda, MD 20814, 301-504-7479 (Office) or 240-863-8938 (Cell).

Dated: November 13, 2024.
Alberta Mills,
Commission Secretary.

[FR Doc. 2024-26892 Filed 11-14-24; 11:15 am]

BILLING CODE 6355-01-P